DEPARTMENT OF COMMERCE

International Trade Administration

[A-570-970]

Multilayered Wood Flooring From the People's Republic of China: Final Results of Antidumping Duty Administrative Review, Final Determination of No Shipments, and Final Partial Rescission of Antidumping Duty Administrative Review; 2014-2015

AGENCY: Enforcement and Compliance, International Trade Administration, Commerce.

SUMMARY: On December 27, 2016, the Department of Commerce (the Department) published the preliminary results of the fourth administrative review (AR) of the antidumping duty (AD) order on multilayered wood flooring (MLWF) from the People's Republic of China (PRC). The period of review (POR) for the AR is December 1, 2014, through November 30, 2015. The AR covers 111 companies. The review covers two mandatory respondents, Dalian Penghong Floor Products Co., Ltd. (Penghong) and Jiangsu Senmao Bamboo and Wood Industry Co., Ltd. (Senmao). We received comments from interested parties on our Preliminary Results. Based on our analysis of the comments received, we made changes to the margin calculations for the Final Results of this administrative review. The final dumping margins are listed below in the “Final Results” section of this notice.

DATES: Effective June 5, 2017.

FOR FURTHER INFORMATION CONTACT: William Horn or Aleksandras Nakutis, AD/CVD Operations, Office IV, Enforcement & Compliance, International Trade Administration, Department of Commerce, 1401 Constitution Avenue NW., Washington, DC 20230; telephone: (202) 482-2615, and (202) 482-3147, respectively.

SUPPLEMENTARY INFORMATION:

Background

On December 27, 2016, the Department published in the Federal Register the preliminary results of the 2014-2015 administrative review of the antidumping duty order on wood flooring from the PRC.¹ On January 26, 2017, the Department received case briefs from multiple interested parties.² Additionally, on January 26, 2017, we received from Power Dekor Group Co., Ltd. a letter in lieu of case brief. On February 6, 2017, the Department received rebuttal briefs from Fine Furniture, Old Master Products Inc. (Old Master), Senmao and the HB Respondents, and CAHP. Also, on January 26, 2017, the Department received requests for a hearing from CAHP and Penghong. All parties later withdrew their requests for a hearing.³ On March 31, 2017, we extended the time period for issuing the Final Results of this review by 30 days, until May 26, 2017.⁴

¹ See Multilayered Wood Flooring from the People's Republic of China: Preliminary Results of Antidumping Duty Administrative Review, Preliminary Determination of No Shipments, and Preliminary Partial Rescission of Antidumping Duty Administrative Review; 2014-2015, 81 FR 95114 (December 27, 2016) (Preliminary Results).

² See Memorandum from Gary Taverman, Deputy Assistant Secretary for Antidumping and Countervailing Duty Operations to Ronald K. Lorentzen, Acting Assistant Secretary for Enforcement and Compliance, regarding “Issue and Decision Memorandum for the Final Results of the 2014-2015 Antidumping Duty Administrative Review of Multilayered Wood Flooring from the People's Republic of China,” (Issue and Decision Memorandum), issued and dated concurrently with this notice.

³ Penghong and DH Respondents letter to the file re: “Multilayered Wood Flooring from the People's Republic of China—Withdrawal of Hearing Request” dated March 7, 2017 and CAHP letter to the file re: “Multilayered Wood Flooring from the People's Republic of China” dated March 7, 2017.

⁴ Memo to the file re: “Multilayered Wood Flooring from the People's Republic of China: Extension of Deadline for Final Results of Antidumping Duty Administrative Review,” dated March 31, 2017.

Scope of the Order

The merchandise covered by the order includes MLWF, subject to certain exceptions.⁵ Imports of the subject merchandise are provided for under the following subheadings of the Harmonized Tariff Schedule of the United States (HTSUS): 4412.31.0520; 4412.31.0540; 4412.31.0560; 4412.31.2510; 4412.31.2520; 4412.31.3175; 4412.31.4040; 4412.31.4050; 4412.31.4060; 4412.31.4070; 4412.31.4075; 4412.31.4080; 4412.31.5125; 4412.31.5135; 4412.31.5155; 4412.31.5165; 4412.31.5175; 4412.31.6000; 4412.31.9100; 4412.32.0520; 4412.32.0540; 4412.32.0560; 4412.32.0565; 4412.32.0570; 4412.32.2510; 4412.32.2520; 4412.32.2525; 4412.32.2530; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5105; 4412.99.5115; 4412.99.5710; 4412.99.6000; 4412.99.7000; 4412.99.8000; 4412.99.9000; 4412.99.9500; 4418.71.2000; 4418.71.9000; 4418.72.2000; 4418.72.9500; and 9801.00.2500.

⁵ See Memorandum from Gary Taverman, Deputy Assistant Secretary for Antidumping and Countervailing Duty Operations to Ronald K. Lorentzen, Acting Assistant Secretary for Enforcement and Compliance, regarding “Issue and Decision Memorandum for the Final Results of the 2014-2015 Antidumping Duty Administrative Review of Multilayered Wood Flooring from the People's Republic of China,” (Issue and Decision Memorandum), issued and dated concurrently with this notice, for a complete description of the Scope of the Order.

While HTSUS subheadings are provided for convenience and customs purposes, the written description of the subject merchandise is dispositive.

Methodology

The Department has conducted this review in accordance with section 751(a)(1)(B) of the Tariff Act of 1930, as amended (the Act). Export prices and constructed export prices have been calculated in accordance with section 772 of the Act. Because the PRC is a non-market economy (NME) within the meaning of section 771(18) of the Act, normal value (NV) has been calculated in accordance with section 773(c) of the Act.

For a full description of the methodology underlying our conclusions, please see Issues and Decision Memorandum, hereby adopted by this notice.⁶ The Issues and Decision Memorandum is a public document and is on file electronically via Enforcement and Compliance's Antidumping and Countervailing Duty Centralized Electronic Service System (ACCESS). ACCESS is available to registered users at http://access.trade.gov. The Issues and Decision Memorandum is also available in the Central Records Unit, Room B8024 of the main Department of Commerce building. In addition, a complete version of the Issues and Decision Memorandum can be accessed directly at http://enforcement.trade.gov/frn/index.html. The signed Issues and Decision Memorandum and the electronic versions of the Issues and Decision Memorandum are identical in content.

⁶ A list of topics discussed in the Issues and Decision Memorandum is provided in the Appendix to this notice.

Final Determination of No Shipments

In the Preliminary Results, we found that nine companies had no shipments during the POR.⁷ Power Dekor submitted comments stating the Department made an inadvertent error in the Preliminary Results by not recognizing Power Dekor's timely filed no-shipment letter.⁸ We have reviewed Power Dekor's comments and no-shipment letter and have found that Power Dekor had no shipments during this POR.⁹ Therefore, for these Final Results, we find that a total of ten companies had no shipments during the POR.¹⁰ Consistent with our “automatic assessment” clarification, we will issue appropriate instructions with respect to these companies to CBP based on our Final Results.¹¹ In addition, as discussed below, these companies will maintain their rate from the most recent segment in which they participated.

⁷ See Preliminary Results.

⁸ See Multilayered Wood Flooring from People's Republic of China: Power Dekor Group Co., Ltd.'s Letter in Lieu of Case Brief (January 26, 2017), at 2.

⁹ See Issues and Decisions Memorandum dated concurrently with this notice at comment 4.

¹⁰ Changbai Mountain Development and Protection Zone Hongtu Wood Industrial Co., Ltd.; Dalian Xinjinghua Wood Co., Ltd.; Guangzhou Homebon Timber Manufacturing Co., Ltd.; Henan Xingwangjia Technology Co., Ltd.; Jiangsu Yuhui International Trade Co., Ltd.; Power Dekor Group Co., Ltd.; Shenyang Senwang Wooden Industry Co., Ltd.; Xuzhou Antop International Trade Co., Ltd.; Yekalon Industry Inc.; and Zhejiang Shuimojiangnan New Material Technology Co., Ltd.

¹¹ See Non-Market Economy Antidumping Proceedings: Assessment of Antidumping Duties, 76 FR 65694 (October 24, 2011) (Assessment of Antidumping Duties); see also the “Assessment” section of this notice, below.

Changes Since the Preliminary Results

• We granted Power Dekor no shipment status during the POR.¹²

¹² See Issues and Decision Memorandum at comment 4.

• We assigned a separate rate to the Fusong Jinlong Group, which includes all four members of the group: Fusong Jinlong Wooden Group Co., Ltd., Fusong Qianqiu Wooden Product Co., Ltd., Dalian Qianqiu Wooden Product Co., Ltd., and Fusong Jinqiu Wooden Product Co., Ltd.¹³

¹³ See Issues and Decision Memorandum at comment 6.

• We revised the calculation of the surrogate value for water in Penghong's margin program by converting MT to KG before applying the water surrogate value to the reported water consumption.¹⁴

¹⁴ See Memorandum to the File from William Horn, International Trade Compliance Analyst, “Multilayered Wood Flooring from the People's Republic of China: Analysis of the Final Results Margin Calculation for Dalian Penghong Floor Products Co., Ltd.,” dated concurrently with this determination (Penghong Final Analysis Memorandum), at page 2.

• We added the value of free of charge inputs to Penghong's calculation of export price as applicable.¹⁵

¹⁵ Id., at page 2 and Exhibit 1.

• We corrected the surrogate values for red oak, jatoba, plastic strip, and overlaying glue that are applicable for Senmao; that were inadvertently assigned incorrect surrogate values in the Preliminary Results.¹⁶

¹⁶ See Memorandum to the File from Aleksandras Nakutis, International Trade Compliance Analyst, “Multilayered Wood Flooring from the People's Republic of China: Analysis of the Final Results Margin Calculation for Jiangsu Senmao Bamboo and Wood Industry Co., Ltd.,” dated concurrently with this determination (Senmao Final Analysis Memorandum), at page 2.

• We revised the surrogate value for plywood for Senmao to reflect Romanian Harmonized Tariff Schedule (HTS) 441232 rather than using a simple average of Romanian HTS 44123210 and 44123190.¹⁷

¹⁷ Id., at page 2.

Final Results of the Administrative Review

The Department determines that twenty companies subject to this review did not establish eligibility for a separate rate. As such, we determine they are part of the PRC-wide entity.¹⁸ Because no party requested a review of the PRC-wide entity and the Department no longer considers the PRC-wide entity as an exporter conditionally subject to administrative reviews,¹⁹ we did not conduct a review of the PRC-wide entity. Thus, the rate for the PRC-wide entity is not subject to change as a result of this review. For companies subject to this review that have established their entitlement to a separate rate the Department calculated a separate rate based on the expected method according to 735(c)(5)(A) of the Act. For further discussion see accompanying Issues and Decisions Memorandum at comment 3.

¹⁸ The following companies were named in the Initiation of Antidumping and Countervailing Duty Administrative Reviews, 81 FR 6832, 6835-37 (February 9, 2016) (First Initiation Notice) and 81 FR 11179, 11182 (March 3, 2016) (Second Initiation Notice), but did not submit a certification of no shipment, separate rate application or separate rate certification, or otherwise establish eligibility for a separate rate; therefore they are part of the PRC-wide entity: Anhui Suzhou Dongda Wood Co., Ltd.; Baiying Furniture Manufacturer Co., Ltd.; Cheng Hang Wood Co., Ltd.; HaiLin XinCheng Wooden Products, Ltd.; Hangzhou Dazhuang Floor Co., Ltd (dba Dasso Industrial Group Co., Ltd).; Hangzhou Huahi Wood Industry Co., Ltd.; Huber Engineering Wood Corp.; Huzhou City Nanxun Guangda Wood Co., Ltd.; Huzhou Fuma Wood Co., Ltd.; Jiafeng Wood (Suzhou) Co., Ltd.; Qingdao Barry Flooring Co., Ltd.; Shandong Kaiyuan Wood Industry Co., Ltd.; Shanghai Anxin (Weiguang) Timber Co., Ltd.; Shanghai Eswell Timber Co., Ltd.; Shanghai New Sihe Wood Co., Ltd.; Shanghai Shenlin Corporation; Vicwood Industry (Suzhou) Co. Ltd.; Yixing Lion-King Timber Industry; Zhejiang AnJi XinFeng Bamboo & Wood Industry Co., Ltd.; Zhejiang Desheng Wood Industry Co., Ltd.; and Zhejiang Haoyun Wooden Co., Ltd.

¹⁹ See Antidumping Proceedings: Announcement of Change in Department Practice for Respondent Selection in Antidumping Duty Proceedings and Conditional Review of the Nonmarket Economy Entity in NME Antidumping Duty Proceedings, 78 FR 65963, 65969-70 (November 4, 2013).

For companies subject to this review that have established their eligibility for a separate rate, the Department determines that the following dumping margins exist for the POR from December 1, 2014, through November 30, 2015:

Exporter ²⁰ | Weighted- average dumping margin
Dalian Penghong Floor Products Co., Ltd./Dalian Shumaike Floor Manufacturing Co., Ltd | 0.00
Jiangsu Senmao Bamboo and Wood Industry Co., Ltd | * 0.23
A&W (Shanghai) Woods Co., Ltd | 0.00
Anhui Boya Bamboo & Wood Products Co., Ltd | 0.00
Anhui Longhua Bamboo Product Co., Ltd | 0.00
Baishan Huafeng Wooden Product Co., Ltd | 0.00
Benxi Wood Company | 0.00
Changzhou Hawd Flooring Co., Ltd | 0.00
Chinafloors Timber (China) Co., Ltd | 0.00
Dalian Dajen Wood Co., Ltd | 0.00
Dalian Huade Wood Product Co., Ltd | 0.00
Dalian Huilong Wooden Products Co., Ltd | 0.00
Dalian Jiahong Wood Industry Co., Ltd | 0.00
Dalian Jiuyuan Wood Industry Co., Ltd | 0.00
Dalian Kemian Wood Industry Co., Ltd | 0.00
Dalian T-Boom Wood Products Co., Ltd | 0.00
Dongtai Fuan Universal Dynamics, LLC | 0.00
Dunhua City Hongyuan Wood Industry Co., Ltd | 0.00
Dun Hua City Jisen Wood Industry Co., Ltd | 0.00
Dunhua City Wanrong Wood Industry Co., Ltd | 0.00
Dunhua City Dexin Wood Industry Co., Ltd | 0.00
Dun Hua Sen Tai Wood Co., Ltd | 0.00
Fine Furniture (Shanghai) Limited and Double F Limited ²¹ | 0.00
Fusong Jinlong Wooden Group Co., Ltd ²² | 0.00
GTP International Ltd | 0.00
Guangdong Yihua Timber Industry Co., Ltd | 0.00
Guangzhou Panyu Kangda Board Co., Ltd | 0.00
Guangzhou Panyu Southern Star Co., Ltd | 0.00
HaiLin LinJing Wooden Products Co., Ltd | 0.00
Hangzhou Hanje Tec Co., Ltd | 0.00
Hunchun Forest Wolf Wooden Industry Co., Ltd | 0.00
Hunchun Xingjia Wooden Flooring Inc | 0.00
Huzhou Chenghang Wood Co., Ltd | 0.00
Huzhou Fulinmen Imp. & Exp. Co., Ltd | 0.00
Huzhou Jesonwood Co., Ltd | 0.00
Huzhou Sunergy World Trade Co., Ltd | 0.00
Jiangsu Guyu International Trading Co., Ltd | 0.00
Jiangsu Kentier Wood Co., Ltd | 0.00
Jiangsu Mingle Flooring Co., Ltd | 0.00
Jiangsu Simba Flooring Co., Ltd | 0.00
Jiashan HuiJiaLe Decoration Material Co., Ltd | 0.00
Jiashan On-Line Lumber Co., Ltd | 0.00
Jiaxing Hengtong Wood Co., Ltd | 0.00
Jilin Forest Industry Jinqiao Flooring Group Co., Ltd | 0.00
Jilin Xinyuan Wooden Industry Co., Ltd | 0.00
Karly Wood Product Limited | 0.00
Kember Hardwood Flooring Inc | 0.00
Kemian Wood Industry (Kunshan) Co., Ltd | 0.00
Kingman Floors Co., Ltd | 0.00
Linyi Anying Wood Co., Ltd | 0.00
Linyi Bonn Flooring Manufacturing Co., Ltd | 0.00
Linyi Youyou Wood Co., Ltd ²³ | 0.00
Metropolitan Hardwood Floors, Inc | 0.00
MuDanJiang Bosen Wood Industry Co., Ltd | 0.00
Nakahiro Jyou Sei Furniture (Dalian) Co., Ltd | 0.00
Pinge Timber Manufacturing (Zhejiang) Co., Ltd | 0.00
Puli Trading Limited | 0.00
Scholar Home (Shanghai) New Material Co., Ltd | 0.00
Shanghai Lairunde Wood Co., Ltd | 0.00
Shenyang Haobainian Wooden Co., Ltd | 0.00
Shenzhenshi Huanwei Woods Co., Ltd | 0.00
Sino-Maple (JiangSu) Co., Ltd | 0.00
Suzhou Dongda Wood Co., Ltd | 0.00
Tongxiang Jisheng Import and Export Co., Ltd | 0.00
Xiamen Yung De Ornament Co., Ltd | 0.00
Xuzhou Shenghe Wood Co., Ltd | 0.00
Yingyi-Nature (Kunshan) Wood Industry Co., Ltd | 0.00
Zhejiang Biyork Wood Co., Ltd | 0.00
Zhejiang Dadongwu Green Home Wood Co., Ltd | 0.00
Zhejiang Fudeli Timber Industry Co., Ltd | 0.00
Zhejiang Fuerjia Wooden Co., Ltd | 0.00
Zhejiang Fuma Warm Technology Co., Ltd | 0.00
Zhejiang Jiechen Wood Industry Co., Ltd | 0.00
Zhejiang Longsen Lumbering Co., Ltd | 0.00
Zhejiang Shiyou Timber Co., Ltd | 0.00
* De minimis.

Final Partial Rescission of Antidumping Duty Administrative Review

Pursuant to 19 CFR 351.213(d)(1), the Department will rescind an administrative review, in whole or in part, if a party that requested the review withdraws its request within 90 days of the date of publication of the notice of initiation of the requested review. Jiangsu Keri Wood Co., Ltd. withdrew its respective request for an administrative review within 90 days of the date of publication of the Initiation Notice.²⁴ Accordingly, the Department rescinded this review with respect to Jiangsu Keri Wood Co., Ltd., in accordance with 19 CFR 351.213(d)(1).²⁵ The Department reviewed Jiangsu Keri Wood Co., Ltd. as part of its concurrent new shipper review and intends to issue appropriate instructions to CBP based on the results therein.²⁶

²⁰ The mandatory respondents for this review included Dalian Penghong Floor Products Co., Ltd./Dalian Shumaike Floor Manufacturing Co., Ltd. and Jiangsu Senmao Bamboo and Wood Industry Co., Ltd.

²¹ See Issues and Decisions Memorandum at comment 5.

²² In prior reviews, the Department determined that the four affiliated companies that comprise the Fusong Jinlong Group, namely, Fusong Jinlong Wooden Group Co., Ltd., Fusong Qianqiu Wooden Product Co., Ltd., Dalian Qianqiu Wooden Product Co., Ltd., and Fusong Jinqiu Wooden Product Co., Ltd., are sufficiently interrelated that for antidumping analysis purposes they should be treated together, and should together be assigned the separate rate on a common basis. The Department has received no information to contradict this finding. Therefore, in these Final Results, the Department has applied the separate rate on a common basis to the four companies that comprise the Fusong Jinlong Group.

²³ On September 30, 2014, the Department determined that Linyi Youyou Wood Co., Ltd. is the successor-in-interest to Shanghai Lizhong Wood Products Co., Ltd./The Lizhong Wood Industry Limited Company of Shanghai. See Multilayered Wood Flooring from the People's Republic of China: Final Results of Changed Circumstances Review, 79 FR 58740 (September 30, 2014). Because Shanghai Lizhong Wood Products Co., Ltd./The Lizhong Wood Industry Limited Company of Shanghai no longer exists as a legal entity, the rate is assigned to Linyi Youyou Wood Co., Ltd.

²⁴ See Letter from Jiangsu Keri Wood Co., Ltd. to the Department regarding “Withdrawing of Review Request” dated February 22, 2016.

²⁵ See Preliminary Results.

²⁶ See Multilayered Wood Flooring from the People's Republic of China: Final Results and Partial Rescission of Antidumping Duty New Shipper Reviews; 2014-2015, dated concurrently with this notice.

With respect to Dongtai Zhangshi Wood Industry Co., Ltd. and Huzhou Muyun Wood Co., Ltd., the Department has found each of these company's one sale during the POR to be a non-bona fide sale in a concurrent new shipper review (“NSR”).²⁷ Because the sale subject to this administrative review is the same sale found to be a non-bona fide sale in the new shipper review, and there are no other reviewable sales by either company during the POR, we are rescinding this review with respect to Dongtai Zhangshi Wood Industry Co., Ltd. and Huzhou Muyun Wood Co., Ltd.

²⁷ See Multilayered Wood Flooring from the People's Republic of China: Rescission of Antidumping Duty New Shipper Reviews; 2014-2015, 81 FR 74393 (October 26, 2016).

Assessment Rates

The Department will determine, and CBP shall assess, antidumping duties on all appropriate entries covered by this review.²⁸ The Department intends to issue assessment instructions to CBP 15 days after the publication date of these Final Results of review. In accordance with 19 CFR 351.212(b)(1), we are calculating importer- (or customer-) specific assessment rates for the merchandise subject to this review. For any individually examined respondent whose weighted-average dumping margin is above de minimis (i.e., 0.50 percent), the Department will calculate importer- (or customer)-specific assessment rates for merchandise subject to this review. In these Final Results, the Department applied the assessment rate calculation method adopted in the Final Modification for Reviews.²⁹ Where either the respondent's weighted-average dumping margin is zero or de minimis, or an importer- (or customer-) specific assessment rate is zero or de minimis, we will instruct CBP to liquidate the appropriate entries without regard to antidumping duties.³⁰ We intend to instruct CBP to liquidate entries containing subject merchandise exported by the PRC-wide entity at the current rate for the PRC-wide entity (which, as noted above, is not subject to change in this review).

²⁸ See 19 CFR 351.212(b)(1).

²⁹ See Antidumping Proceeding Calculation of the Weighted-Average Dumping Margin and Assessment Rate in Certain Antidumping Duty Proceedings; Final Modification, 77 FR 8101 (February 14, 2012) (Final Modification for Reviews).

³⁰ See 19 CFR 351.106(c)(2).

In accordance with section 751(a)(2)(C) of the Act, the Final Results of this review shall be the basis for the assessment of antidumping duties on entries of merchandise covered by the Final Results of this review and for future deposits of estimated duties, where applicable.

Cash Deposit Requirements

The following cash deposit requirements will be effective upon publication of these Final Results of review for shipments of the subject merchandise from the PRC entered, or withdrawn from warehouse, for consumption on or after the publication date, as provided by section 751(a)(2)(C) of the Act: (1) For the companies listed above the cash deposit rate will be their respective rate established in the Final Results of this review, except if the rate is zero or de minimis (i.e., less than 0.5 percent), then the cash deposit rate will be zero; (2) for previously investigated PRC and non-PRC exporters not listed above that have separate rates, the cash deposit rate will continue to be the exporter-specific rate published for the most recent period; (3) for all PRC exporters of subject merchandise which have not been found to be entitled to a separate rate, the cash deposit rate will be that for the PRC-wide entity; and (4) for all non-PRC exporters of subject merchandise which have not received their own rate, the cash deposit rate will be the rate applicable to the PRC exporter that supplied that non-PRC exporter. These deposit requirements, when imposed, shall remain in effect until further notice.

Disclosure

The Department intends to disclose calculations performed for these Final Results to the parties within five days of the date of publication of this notice.³¹

³¹ See 19 CFR 351.224(b).

Notification to Importers

This notice also serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

Administrative Protective Order (APO)

This notice also serves as a final reminder to parties subject to APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these results in accordance with sections 751(a)(1) and 777(i)(1) of the Act and 19 CFR 351.213.

Dated: May 26, 2017.
Ronald K. Lorentzen,
Acting Assistant Secretary for Enforcement and Compliance.

Appendix—List of Topics Discussed in the Issues and Decision Memorandum

1. Summary

2. Background

3. Scope of the Order

4. List of Abbreviations and Acronyms

5. Discussion of the Issues

i. Comment 1: Surrogate country

ii. Comment 2: SC Sigstrat is at a higher level of integration than Senmao and should be rejected

iii. Comment 3: The Department must apply the “expected method” to assign the separate rate in this review if both mandatory respondents earn de minimis rates

iv. Comment 4: Consideration of Power Dekor's no shipment certification

v. Comment 5: Inclusion of Fine Furniture's affiliate's name in customs instructions and Federal Register Notice

vi. Comment 6: Treatment of Fusong Jinlong group as a single entity

vii. Comment 7: Overstatement of water SV

viii. Comment 8: Overstatement of NV or understatement of export price

ix. Comment 9: The Department must correct the Jatoba and Red Oak surrogate values

x. Comment 10: The Department should correct its valuation of Senmao's wood veneers

xi. Comment 11: Glue surrogate value

xii. Comment 12: Senmao's by product offset for wood scrap

xiii. Comment 13: The Department should correct the surrogate value references for plastic strip and overlaying glue in Senmao's margin calculations

xiv. Comment 14: Senmao's plywood surrogate value

[FR Doc. 2017-11561 Filed 6-2-17; 8:45 am]

BILLING CODE 3510-DS-P